DEPARTMENT OF COMMERCE

National Oceanic and Atmospheric Administration

50 CFR Part 600 and 697

RIN 0648-XT83

Atlantic Coastal Fisheries Cooperative Management Act Provisions; Application for Exempted Fishing Permits (EFPs)

AGENCY: National Marine Fisheries Service (NMFS), National Oceanic and Atmospheric Administration (NOAA), Commerce.

ACTION: Notification of a request for an EFP; request for comments.

SUMMARY: This EFP application, submitted by the Pemaquid Fishermen's Cooperative Association (PFC), is intended to assist NMFS and the Atlantic Large Whale Take Reduction Team (ALWTRT) in their efforts to address the identified entanglement threat of vertical lines in fixed gear fisheries to Atlantic large whale populations. The EFP application is for testing of fixed fishing gear with no vertical lines on the northern edge of Jeffrey's Ledge in the Gulf of Maine.

The Assistant Regional Administrator for Sustainable Fisheries, Northeast Region, NMFS (Assistant Regional Administrator), has made a preliminary determination that the subject EFP application contains all the required information and warrants further consideration and that the activities authorized under the EFP would be consistent with the goals and objectives of federal management of the American lobster (lobster) resource. However, further review and consultation may be necessary before a final determination is made to issue an EFP. NMFS announces that the Assistant Regional Administrator proposes to issue an EFP and, therefore, invites comments on the issuance of this EFP.

DATES: Comments must be received on or before March 5, 2010.

ADDRESSES: Written comments should be sent to Patricia A. Kurkul, Regional Administrator, NMFS, Northeast Regional Office, 55 Great Republic Drive, Gloucester, MA 01930-2298. Mark the outside of the envelope “Comments - Lobster EFP Proposal.” Comments also may be sent via facsimile (fax) to 978-281-9117. Comments may also be submitted by e-mail to Alobster@noaa.gov. Include in the subject line of the e-mail the following document identifier: “Comments - Lobster EFP Proposal.”

FOR FURTHER INFORMATION CONTACT: Sarah Towne, Research Associate, (978) 675-2162, fax (978) 281-9117.

SUPPLEMENTARY INFORMATION:

Background

The regulations that govern exempted fishing, at § 600.745(b) and § 697.22, allow the Regional Administrator to authorize for limited testing, public display, data collection, exploration, health and safety, environmental clean-up, and/or hazardous removal purposes, and the targeting or incidental harvest of managed species that would otherwise be prohibited. An EFP to authorize such activity may be issued, provided there is adequate opportunity for the public to comment on the EFP application, the conservation goals and objectives of federal management of the lobster resource are not compromised, and issuance of the EFP is beneficial to the management of the species.

The lobster fishery is one of the most valuable fisheries in the northeastern United States. In 2008, approximately 82 million lbs (37,120 mt) of lobster were landed, with an ex-vessel value of approximately $306 million. Under the Atlantic States Marine Fisheries Commission's interstate management process, lobsters are managed in state waters under Amendment 3 to the American Lobster Interstate Fishery Management Plan (Amendment 3). In federal waters of the Exclusive Economic Zone (EEZ), lobsters are managed under federal regulations at 50 CFR part 697.

The ALWTRP is a program to reduce the risk of serious injury or death of large whales due to incidental entanglement in U.S. commercial fishing gear. The plan is required by the Marine Mammal Protection Act (MMPA), and has been implemented by NMFS. The ALWTRP evolves as NMFS and the ALWTRT learn more about why whales become entangled and how fishing practices might be modified to reduce the risk of entanglement.

Proposed EFP

The EFP application requests exemptions from regulations in order to conduct gear research on the northern edge of Jeffrey's Ledge in the Gulf of Maine to study fixed lobster fishing gear without vertical lines that could reduce or diminish whale entanglement. One contracted commercial fisherman would fish 140 traditional wire lobster traps with no vertical lines (experimental) and 140 traditional wire lobster traps with vertical lines (control), each set in multiple trawl configurations, rigging no fewer then 7 trawls with 20 traps each. Both the experimental and control group trawls would be hauled 30 times each during the fishing season, totaling no fewer than 420 hauls. The EFP application proposes the collection of statistical and scientific information as part of the project. Investigators would complete a NMFS-approved data sheet on each trip, collecting data on weather and sea conditions, position of gear, bottom type, water depth and temperature, duration of hauling time, set time, trap loss, configuration changes, hauling procedure modifications, catch, price per pound, and gear conflicts.

Trawls would be tested on different bottom types, and the grappling hook gear used to retrieve the lineless trawls would be specific to that bottom type. Although the grappling hooks might adversely impact benthic habitats, their limited use for the proposed activity would not constitute a threat that is significantly greater than the one associated with the impact of the traps themselves, or of the other lobster traps that are already being fished in the proposed project location. Therefore there would be no anticipated adverse effects on protected resources or habitat as a result of this work.

This project would not involve the authorization of any additional lobster trap gear. To allow for experimentation with traps without vertical lines, the EFP would provide exemptions from the vertical line and buoy regulations at § 697.21(b)(2). All traps fished by the participating vessel would comply with all other applicable lobster regulations specified at 50 CFR part 697. There would not be observers or researchers onboard the participating vessel.

Authority: 16 U.S.C. 1801 et seq.

Dated: February 12, 2010.
Emily H. Menashes,
Acting Director, Office of Sustainable Fisheries, National Marine Fisheries Service.

[FR Doc. 2010-3150 Filed 2-17-10; 8:45 am]

BILLING CODE 3510-22-S